DEPARTMENT OF JUSTICE

Notice of Lodging of Proposed Consent Decree Under the Comprehensive Environmental Response, Compensation Liability Act (“CERCLA”)

On January 17, 2017, the Department of Justice lodged a proposed Consent Decree (“Decree”) with the United States District Court for the District of Arizona in the lawsuit entitled United States v. Cyprus Amax Minerals Company and Western Nuclear, Inc., Civil Action No. 2:17-cv-00140.

In this action, the United States and the Navajo Nation filed complaints against Cyprus Amax Minerals Company and Western Nuclear, Inc. (“Defendants”) seeking past and future response costs and injunctive relief under Sections 106 and 107 of the Comprehensive Environmental Response, Compensation and Liability Act, 42 U.S.C. 9606 and 9607. The United States and the Navajo Nation concurrently lodged a Consent Decree resolving the claims alleged in the complaint. The Defendants, through either their corporate predecessors or past activities, operated mine sites on the Navajo Nation. There are Navajo Nation communities located close to the mine sites, on and near the Navajo Nation Reservation, and downstream and down-wind from the waste piles on the mine sites. There have been or may be releases and/or threatened releases of hazardous substances from the mine sites formerly operated by the Defendants into the environment at each of the mine sites. More specifically, there have been or may be releases and/or threatened releases of uranium and radium-226, each of which constitutes a hazardous substance. The Decree requires the Settling Defendants to pay past and future response costs to EPA and implement injunctive relief to abate releases or threatened releases from the mine sites.

The publication of this notice opens a period for public comment on the Consent Decree. Comments should be addressed to the Assistant Attorney General, Environment and Natural Resources Division, and should refer to United States v. Cyprus Amax Minerals Company and Western Nuclear, Inc., D.J. Ref. No. 90-11-2-10823/1. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the Consent Decree may be examined and downloaded at this Justice Department Web site: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Commenters should be aware that comments received are submitted to the Court as a public filing, and may be submitted to counsel and other parties associated with the litigation.

Henry Friedman,
Assistant Section Chief, Environmental Enforcement Section, Environment and Natural Resources Division.

[FR Doc. 2017-01565 Filed 1-23-17; 8:45 am]

BILLING CODE 4410-15-P